DEPARTMENT OF COMMERCE

International Trade Administration

[C-507-501]

Certain In-Shell Pistachios From the Islamic Republic of Iran: Extension of Time Limit for Preliminary Results of Countervailing Duty Administrative Review

AGENCY: Import Administration, International Trade Administration, Department of Commerce.

ACTION: Notice of extension of time limit for preliminary results of countervailing duty administrative review.

EFFECTIVE DATE: October 18, 2004.

FOR FURTHER INFORMATION CONTACT: Darla Brown or Eric B. Greynolds, AD/CVD Enforcement, Office III, Import Administration, International Trade Administration, U.S. Department of Commerce, 14th Street and Constitution Avenue NW., Washington, DC 20230; telephone: (202) 482-2786.

Time Limits

Statutory Time Limits

Section 751(a)(3)(A) of the Tariff Act of 1930, as amended (the Act), requires the Department of Commerce (“the Department”) to make a preliminary determination within 245 days after the last day of the anniversary month of an order for which a review is requested. However, if it is not practicable to complete the preliminary results of review within this time period, section 751(a)(3)(A) of the Act allows the Department to extend the time limit for the preliminary determination to a maximum of 365 days.

Background

On April 28, 2004, the Department initiated an administrative review of the countervailing duty order on certain in-shell pistachios from the Islamic Republic of Iran (Iran). See 69 FR 23170. The administrative review covers the period January 1, 2003, through December 31, 2003. The respondent in this administrative review is the Tehran Negah Nima Trading Company (Nima). The preliminary results are currently due no later than December 1, 2004.

Extension of Time Limit for Preliminary Results of Review

Due to the fact that we have received several new subsidy allegations from petitioners and due to the complicated nature of this case, we find that it is not practicable for the Department to complete the preliminary results of the administrative review within the 245-day statutory time frame. Therefore, the Department is extending the time limits for completion of the preliminary results until March 31, 2005.

This extension is in accordance with section 751(a)(3)(A) of the Act.

Dated: October 8, 2004.
Jeffrey A. May,
Deputy Assistant Secretary for Import Administration.

[FR Doc. E4-2704 Filed 10-15-04; 8:45 am]

BILLING CODE 3510-DS-P